DEPARTMENT OF HEALTH AND HUMAN SERVICES

National Institutes of Health

National Institute of Environmental Health Sciences 2006 Strategic Plan

AGENCY: National Institute of Environmental Health Sciences (NIEHS), National Institutes of Health (NIH), Department of Health and Human Services (DHHS).

ACTION: Request for comments and nominations.

SUMMARY: The NIEHS is updating its 2000 strategic plan entitled NIEHS Strategic Plan 2000—A Five-Year Program: New Opportunities in Environmental Health Research. To anticipate, meet, and set priorities for environmental health research, training, resources, and technologies, NIEHS requests input from scientists, members of the public, and all interested parties. The goal of this strategic planning process is to identify barriers to progress for future research and to define future needs and directions for environmental health. In addition, the NIEHS seeks the nomination of individuals qualified to participate in a workshop to discuss the plan in more detail. The existing NIEHS strategic plan can be viewed at http://www.niehs.nih.gov/external/plan2000/home.htm.

DATES: Submit responses to the NIEHS Office of Science Policy and Planning, (see below), on or before August 5, 2005.

ADDRESSES: The Office of Science Policy and Planning, NIEHS/NIH, PO Box 12233, Research Triangle Park, NC 27709, telephone (919) 541-3484, FAX (919) 541-1994, e-mail niehs-plan2006@niehs.nih.gov. Comments may be submitted electronically at the NIEHS Strategic Planning Web site: http://www.niehs.nih.gov/external/plan2006/home.htm. They can also be submitted by e-mail, mail or fax to the above address.

SUPPLEMENTARY INFORMATION:

Background

The mission of the NIEHS is to reduce the burden of environmentally-associated disease and dysfunction by defining three elements: (1) How environmental exposures affect our health, (2) how individuals differ in their susceptibility to these exposures, and (3) how these susceptibilities change over time.

The NIEHS achieves its mission through multidisciplinary biomedical research programs and prevention and intervention efforts. The NIEHS also focuses on communication strategies that encompass training, education, technology transfer, and community outreach. Research is required to disseminate evidence-based environmental health policies that prevent diseases.

Request for Comments

To ensure the continued relevance of its Strategic Plan, the NIEHS seeks input to the following questions relative to the issues described above:

(A) What are the disease processes and public health concerns that are relevant to environmental health sciences?

(B) How can environmental health sciences be used to understand how biological systems work, why some individuals are more susceptible to disease, or why individuals with the same disease may have very different clinical outcomes?

(C) What are the major opportunities and challenges in global environmental health?

(D) What are the environmental exposures that need further consideration?

(E) What are the critical needs for training the next generation of scientists in environmental health?

(F) What technology and infrastructural changes are needed to fundamentally advance environmental health science?

Individuals submitting public comments are asked to include relevant contact information [name, affiliation (if any), address, telephone, fax, e-mail, and sponsoring organization, if applicable].

Request for Nomination of Planning Group Members

The NIEHS solicits nominations for individuals to participate in a workshop to discuss the plan in more detail. Nominations should include the name, degree(s), position title, department, institution name and address, phone and fax numbers, e-mail address, and specific area of expertise. Information of nominated individuals should be sent by August 5, 2005 to the NIEHS office of Science Policy and Planning (contact information provided above).

Dated: June 8, 2005.
David A. Schwartz,
Director, National Institute of Environmental Health Sciences.

[FR Doc. 05-12129 Filed 6-20-05; 8:45 am]

BILLING CODE 4167-01-P